DEPARTMENT OF COMMERCE

National Oceanic and Atmospheric Administration

RIN 0648-XF289

Magnuson-Stevens Act Provisions; General Provisions for Domestic Fisheries; Application for Exempted Fishing Permit

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit (EFP) application submitted by the Northeast Fisheries Science Center (NEFSC) contains all of the required information and warrants further consideration. This EFP would exempt participating vessels from the following types of fishery regulations: Minimum fish size restrictions; fish possession limits for species not protected under the Endangered Species Act (ESA); gear-specific fish possession restrictions for the purpose of at-sea sampling; and, in limited situations for research purposes only, retaining and landing prohibited fish species. Regulations under the Magnuson-Stevens Fishery Conservation and Management Act require publication of this notification to provide interested parties the opportunity to comment on EFP applications.

DATES: Comments must be received on or before April 12, 2017.

ADDRESSES: You may submit written comments by either of the following methods:

• Email: nmfs.gar.efp@noaa.gov. Include in the subject line “Comments on NEFSC Study Fleet EFP.”

• Mail: John K. Bullard, Regional Administrator, NMFS, Greater Atlantic Regional Fisheries Office, 55 Great Republic Drive, Gloucester, MA 01930. Mark the outside of the envelope “Comments on NEFSC Study Fleet EFP.”

FOR FURTHER INFORMATION CONTACT: Spencer Talmage, Fishery Management Specialist, 978-281-9232, Spencer.Talmage@noaa.gov.

SUPPLEMENTARY INFORMATION: NEFSC submitted a complete application for an EFP on February 21, 2017, to enable data collection activities that the regulations on commercial fishing would otherwise restrict.

The NEFSC Study Fleet Program was established in 2002 to more fully characterize commercial fishing operations and to leverage sampling opportunities to augment NMFS data collection programs. NEFSC contracts commercial fishing vessels to collect tow-by-tow catch and environmental data, and to fulfill specific biological sampling needs. To collect these data, NEFSC Study Fleet Program obtains an EFP to secure the necessary waivers for these vessels to possess and land fish that would otherwise be prohibited by regulations. The EFP would exempt 31 Federally permitted commercial fishing vessels from the following regulations while participating in the Study Fleet Program and operating under NEFSC managed projects: Minimum fish size restrictions; fish possession limits for species not protected under the ESA; gear-specific fish possession restrictions for the purpose of at-sea sampling; and, in limited situations for research purposes only, retaining and landing prohibited fish species. Table 1 lists the specific regulations that would be exempted by this permit. The participating vessels would be obligated to comply with all applicable requirements and restrictions specified at 50 CFR part 648, unless specifically exempted in this EFP.

Fishing vessel crews trained by the NEFSC Study Fleet Program would sort, weigh, and measure fish that are to be discarded. In the course of sampling, some discarded species would be on deck slightly longer than under normal sorting procedures, which requires an exemption from the following restrictions: Minimum fish size; fish possession limits; prohibited fish species, not including species protected under the ESA; and gear-specific fish possession restrictions for at-sea sampling.

Participating vessels would also be authorized to retain and land, in limited situations for research purposes only, fish species and/or sizes that are not in compliance with fishing regulations. The vessels would be authorized to retain specific amounts of particular species in whole or round weight condition, which would be delivered upon landing to NMFS staff. To ensure that the collection needs of the Study Fleet Program are not exceeded, participating vessels are required to obtain a formal Biological Sampling Request in writing from the NEFSC Study Fleet Program prior to landing any sublegal fish. None of the landed biological samples from these trips would be sold for commercial use, or utilized for any purpose other than scientific research.

All catch would be attributed to the appropriate commercial fishing quota, and vessels would not be exempt from any inseason quota closure. For vessels on a groundfish sector trip, all catch of Northeast multispecies stocks allocated to sectors would be deducted from its sector's Annual Catch Entitlement (ACE). Once the ACE for a stock has been reached in a sector, vessels would no longer be allowed to fish in that stock area, unless its sector acquires additional ACE for the limiting stock. For common pool vessels, all catch of Northeast multispecies stocks would be counted toward the appropriate trimester total allowable catch (TAC). Common pool vessels would be subject to applicable trimester total allowable catch (TAC) closures.

Table 1—Specific Regulations Covered by the Proposed Exempted Fishing Permit
NEFSC Study Fleet Program EFP
Number of vessels | 36.
Exempted regulations in 50 CFR part 648 | Size limits:
| § 648.83 NE multispecies minimum sizes.
| § 648.93 Monkfish minimum fish size.
| § 648.147 Black sea bass minimum fish size.
| Possession restrictions:
| § 648.86(a) Haddock.
| § 648.86(b) Atlantic cod.
| § 648.86(c) Atlantic halibut.
| § 648.86(d) Small-mesh multispecies.
| § 648.86(l) Zero retention of Atlantic wolffish and windowpane flounder.
| § 648.86(o) Possession limits implemented by Regional Administrator.
| § 648.94 Monkfish possession limit.
| § 648.322 Skate possession and landing restrictions.
| § 648.145 Black sea bass possession limits.
| § 648.92(b)(2)(i) Prohibition from landing NE multispecies on monkfish-only day-at-sea.

NEFSC Study Fleet Program Biological Sampling Needs

As described above, participating vessels would only collect and land biological samples after the NEFSC issues a formal request in writing. Table 2 details the Study Fleet Program's sampling needs.

Table 2—Study Fleet Program's Biological Sample Collection Needs
Species | Stock area * | Gear types # | Collection frequency | Individual fish per collection period | Maximum weight allowed per trip (lb) | Maximum allowance (lb)
Windowpane Flounder | GOM, GB | OTF, DRS | Monthly | 40 ea./mo | 30 | 360.
Monkfish | GOM, GB, SNE | OTF, GNS, DRS | Monthly | 15 ea/mo SNE, 15 ea/mo GOM | 750 | 9,000.
Haddock | GOM, GB, SNE | OTF, LLB, GNS, DRS | Monthly/Seasonal | 40 ea/mo | 320 | 1,600.
Atlantic Cod | GOM, GB, SNE | OTF, LLB, GNS, DRS | Monthly | 120 ea/mo | 270 | 7,200.
Barndoor Skate | GOM, GB, SNE | OTF, GNS, DRS | Quarterly | 20 ea/qtr | 150 | 600.
Thorny Skate | GOM, GB, SNE | OTF, GNS, DRS | Quarterly | 20 ea/qtr | 150 | 600.
Black Sea Bass | GB, SNE | PTF, OTF | Monthly | 30 ea/mo | 180 | 2,160.
Atlantic Wolffish | GOM, GB | OTF, GNS, LLB | Monthly | 40 ea/mo | 160 | 3,500.
Cusk | GOM, GB | OTF,GNS, LLB | Monthly | 40 ea/mo | 140 | 3,600.
Atlantic Halibut | GOM, GB | OTF, GNS, LLB | Monthly | 20 ea/mo | 500 | 6,000.
Butterfish | SNE, MA | OTM | Monthly | 150 ea/mo | 75 | 900.
Atlantic Herring | Any Area | OTM, OTF, PTM, PUR | Monthly | 100 ea/mo | 100 | 1,200.
River Herring/Shad | Any Area | OTM, OTF, PTM, PUR | Monthly | 100 ea/mo of ea species | 100 of ea. species | 1,200 of ea. species.
Round Herring | Any Area | OTM, OTF, PTM, PUR | Monthly | 100 ea/mo | 100 | 1,200.
Silver Hake | Any Area | OTM, OTF, PTM, PUR | Monthly | 100 ea/mo | 260 | 3,120.
Atlantic Mackerel | Any Area | OTM, OTF, PTM, HND, PUR | Monthly | 100 ea/mo | 260 | 3,120.
Shortfin Squid | Any Area | OTM, OTF | Monthly | 100 ea/mo | 75 | 900.
Sand Lance | Any Area | OTM, OTF, PTM, PUR | Monthly | 100 ea/mo | 25 | 300.
Longfin Squid | Any Area | OTM, OTF | Monthly | 100 ea/mo | 75 | 900.
* Stock area abbreviations: Gulf of Maine (GOM), Georges Bank (GB), Southern New England (SNE)
# Gear abbreviations: Otter trawl (OTF), bottom longline (LLB), sink gillnet (GNS), sea scallop dredge (DRS), fish pot (PTF), hand lines, auto jig (HND), purse seine (PUR), otter trawl midwater (OTM), pair trawl midwater (PTM).

If approved, the applicant may request minor modifications and extensions to the EFP throughout the year. EFP modifications and extensions may be granted without further notice if they are deemed essential to facilitate completion of the proposed research and have minimal impact that does not change the scope of the initially approved EFP request. Any fishing activity conducted outside the scope of the exempted fishing activity would be prohibited.

Authority: 16 U.S.C. 1801 et seq.

Dated: March 22, 2017.
Karen H. Abrams,
Acting Deputy Director, Office of Sustainable Fisheries, National Marine Fisheries Service.

[FR Doc. 2017-06057 Filed 3-27-17; 8:45 am]

BILLING CODE 3510-22-P